FEDERAL COMMUNICATIONS COMMISSION

[FR ID 291564]

Sunshine Act Meeting; Open Commission Meeting Monday, April 28, 2025

April 22, 2025.

The Federal Communications Commission will hold an Open Meeting on the subjects listed below on Monday, April 28, 2025, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | SPACE | Title: Modernizing Spectrum Sharing for Satellite Broadband (SB Docket No. 25-157)
|  | Summary: The Commission will consider a Notice of Proposed Rulemaking that would promote efficient spectrum sharing between geostationary and non-geostationary satellite systems. To take account of today's satellite technology and operations and to promote efficient co-existence and expanded services to American consumers, the item would review power limits developed in the 1990s on non-geostationary satellite orbit, fixed-satellite service systems for the protection of geostationary satellite networks.
2 | Wireless Tele-Communications | Title: Utilizing the Lower 37 GHz Band (WT Docket No. 24-243); Use of Spectrum Bands Above 24 GHz for Mobile Radio Services (GN Docket No. 14-177)
|  | Summary: The Commission will consider a Report and Order, Sixth Report and Order, and Further Notice of Proposed Rulemaking establishing a licensing framework for use of the 37-37.6 GHz band (Lower 37 GHz band).
3 | Wireline Competition | Title: Caller ID Authentication on Non-IP Networks to Block Robocalls (WC Docket No. 17-97)
|  | Summary: The Commission will consider a Notice of Proposed Rulemaking that proposes to develop a framework for evaluating whether non-IP caller ID authentication solutions are developed and reasonably available, as required by the TRACED Act, proposes to conclude that certain existing solutions satisfy those requirements, and proposes to require that providers that continue to rely on non-IP networks implement non-IP caller ID authentication solutions.
4 | International | Title: Clarifying Foreign Ownership Rules (GN Docket No. 25-149)
|  | Summary: The Commission will consider a Notice of Proposed Rulemaking that would set clear expectations about the Commission's review under section 310(b) of the Act of foreign investment in common carrier wireless, aeronautical radio, and broadcast licensees to reduce unnecessary burdens on industry while continuing to protect the public interest, including national security, law enforcement, foreign policy, and trade policy.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Katura Jackson,
Federal Register Liaison Officer.

[FR Doc. 2025-07303 Filed 4-25-25; 4:15 pm]

BILLING CODE 6712-01-P